DEPARTMENT OF VETERANS AFFAIRS

[OMB Control No. 2900-0162]

Agency Information Collection Activity Under OMB Review: Monthly Certification of Flight Training

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before December 26, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0162” in any correspondence.

FOR FURTHER INFORMATION CONTACT: Danny S. Green at (202) 421-1354.

SUPPLEMENTARY INFORMATION:

Authority: 38 U.S.C. 3032(e), 3231(e), 3313(g)(3)(C), and 3680(g).

Title: Monthly Certification of Flight Training, VA Form 22-6553c.

OMB Control Number: 2900-0162.

Type of Review: Reinstatement with change of a previously approved collection.

Abstract: Veterans, individuals on active duty training and individuals on reservist training may receive benefits for enrolling in or pursuing vocational flight training. VA Form 22-6553c serves as a report of flight training pursued and the termination of this flight training. Payments are based on the number of hours of flight training the individual completed during each month.

An agency may not conduct or sponsor, and a person is not required to respond to a collection of information unless it displays a currently valid OMB control number. The Federal Register Notice with a 60-day comment period soliciting comments on this collection of information was published at 84 FR 175 on September 10, 2019, pages 47637 and 47638.

Affected Public: Individuals.

Estimated Annual Burden: 11,343.

Estimated Average Burden per Respondent: 30 minutes.

Frequency of Response: On occasion (6 responses per respondent annually).

Estimated Number of Respondents: 22,686.

By direction of the Secretary.
Danny S. Green,
VA Interim Clearance Officer, Office of Quality, Privacy and Risk, Department of Veterans Affairs.

[FR Doc. 2019-25670 Filed 11-25-19; 8:45 am]

BILLING CODE 8320-01-P